FEDERAL COMMUNICATIONS COMMISSION

47 CFR Parts 73 and 76

[MB Docket No. 19-363; DA 19-1292]

Order Granting Extension of Time To File Reply Comments

AGENCY: Federal Communications Commission.

ACTION: Adoption of order.

SUMMARY: In this document, the Media Bureau adopted an Order, granting a Motion for Extension of Time filed by the Campaign Legal Center, Sunlight Foundation, Common Cause, the Benton Institute for Broadband and Society and Issue One in MB Docket No. 19-363 (DA 19-1292).

DATES: Reply comments are due January 28, 2020.

ADDRESSES: Federal Communications Commission, 445 12th Street SW, Washington, DC 20554.

FOR FURTHER INFORMATION CONTACT: Gary Schonman, gary.schonman@fcc.gov, of the Media Bureau, (202) 418-1795.

SUPPLEMENTARY INFORMATION: This is a summary of the Commission's document, DA 19-1292, which was released December 18, 2019. The full text of this document is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission. The Order adopted in this document extends the deadline for reply comments on the Petition for Reconsideration and Clarification filed by the National Association of Broadcasters, Hearst Television, Inc., Graham Media Group, Nexstar Broadcasting, Inc., Fox Corporation, Tegna, Inc. and The E.W. Scripps Company (Petition) by 15 days from January 13, 2020 to January 28, 2020. The deadline for comments on the Petition, which is December 30, 2019, is not changed by the Order.

Federal Communications Commission.
Thomas Horan,
Chief of Staff, Media Bureau.

[FR Doc. 2020-00466 Filed 1-27-20; 8:45 am]

BILLING CODE 6712-01-P